DEPARTMENT OF THE TREASURY

Submission for OMB Review; Comment Request

August 24, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 1, 2001 to be assured of consideration.

Internal Revenue Service (IRS)

OMB Number: 1545-1266.

Form Number: IRS Form 8829.

Type of Review: Extension.

Title: Expenses for Business Use of Your Home.

Description: Internal Revenue Code (IRC) section 280A limits the deduction for business use of a home to the gross income from the business use minus certain business deductions. Amounts not allowed due to the limitations can be carried over to the following year. Form 8829 is used to verify that the deduction is properly figured.

Respondents: Individuals or households.

Estimated Number of Respondents/Recordkeeper: 4,000,000.

Estimated Burden Hours Per Respondent/Recordkeeper:

Recordkeeping—52 min.

Learning about the law or the form—8 min.

Preparing the form—1 hr., 16 min.

Copying, assembling, and sending the form to the IRS—20 min.

Frequency of Response: Annually

Estimated Total Reporting/Recordkeeping Burden: 10,400,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Mary A. Able,
Departmental Reports Management Officer.

[FR Doc. 01-21940 Filed 8-29-01; 8:45 am]

BILLING CODE 4830-01-P